SMALL BUSINESS ADMINISTRATION

[Declaration of Disaster # 3489]

State of New York

Westchester County and the contiguous counties of Bronx, Orange, Putnam and Rockland in the State of New York; Fairfield County in the State of Connecticut; and Bergen County in the State of New Jersey constitute a disaster area as a result of a fire that occurred on March 16, 2003. The fire destroyed apartments at the Wakefield Towers apartment complex in the City of Yonkers. Applications for loans for physical damage may be filed until the close of business on June 16, 2003 and for economic injury until the close of business on January 16, 2004 at the address listed below or other locally announced locations:

U.S. Small Business Administration, Disaster Area 1 Office, 360 Rainbow Blvd., South 3rd Floor, Niagara Falls, NY 14303.

The interest rates are:

| Percent
For Physical Damage:
Homeowners with credit available elsewhere | 5.875
Homeowners without credit available elsewhere | 2.937
Businesses with credit available elsewhere | 6.378
Businesses and Non-Profit Organizations without credit available elsewhere | 3.189
Others (Including Non-Profit Organizations) with credit available elsewhere | 5.500
For Economic Injury:
Businesses and Small Agricultural Cooperatives without credit available elsewhere | 3.189

The number assigned to this disaster for physical damage is 348905 for New York; 349005 for Connecticut; and 349105 for New Jersey. The number assigned to this disaster for economic injury is 9U9000 for New York; 9U9100 for Connecticut; and 9U9200 for New Jersey.

(Catalog of Federal Domestic Assistance Program Nos. 59002 and 59008.)
Dated: April 16, 2003.
Hector V. Barreto,
Administrator.

[FR Doc. 03-10004 Filed 4-22-03; 8:45 am]

BILLING CODE 8025-01-P